DEPARTMENT OF TRANSPORTATION

Federal Aviation Administration

14 CFR Part 71

[Docket No. FAA-2022-0243; Airspace Docket No. 22-AGL-5]

RIN 2120-AA66

Amendment of VOR Federal Airways V-26 and V-63; Establishment of Area Navigation (RNAV) Route T-464; and Revocation of the Wausau, WI, Low Altitude Reporting Point; in the Vicinity of Wausau, WI

AGENCY: Federal Aviation Administration (FAA), DOT.

ACTION: Final rule.

SUMMARY: This action amends VHF Omnidirectional Range (VOR) Federal airways V-26 and V-63; establishes Area Navigation (RNAV) route T-464; and revokes the Wausau, WI, Low Altitude Reporting Point in the vicinity of Wausau, WI. This action is necessary due to the planned decommissioning of the VOR portion of the Wausau, WI, VOR/Distance Measuring Equipment (VOR/DME) navigational aid (NAVAID). The Wausau VOR is being decommissioned as part of the FAA's VOR Minimum Operational Network (VOR MON) program.

DATES: Effective date 0901 UTC, December 29, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking (NPRM) for Docket No. FAA-2022-0243 in the Federal Register (87 FR 17040; March 25, 2022), amending VOR Federal airways V-26 and V-63; establishing RNAV route T-464; and revoking the Wausau, WI, Low Altitude Reporting Point due to the planned decommissioning of the VOR portion of the Wausau, WI, VOR/DME NAVAID. Interested parties were invited to participate in this rulemaking effort by submitting written comments on the proposal. No comments were received.

Subsequent to the NPRM, the FAA published a rule for Docket No. FAA-2021-0972 in the Federal Register (87 FR 38913; June 30, 2022), amending VOR Federal airway V-26 by removing the airway segment between the Green Bay, WI, VOR/Tactical Air Navigation (VORTAC) and the White Cloud, MI, VOR/DME NAVAIDs. That airway amendment was effective September 8, 2022, and is included in this rule.

VOR Federal airways are published in paragraph 6010(a), RNAV routes are published in paragraph 6011, and Domestic Low Altitude Reporting Points are published in paragraph 7001 of FAA Order JO 7400.11G, dated August 19, 2022, and effective September 15, 2022, which is incorporated by reference in 14 CFR 71.1. The ATS route and Domestic Low Altitude Reporting Point actions listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending VOR Federal airways V-26 and V-63; establishing RNAV route T-464; and revoking the Wausau, WI, Low Altitude Reporting Point. The ATS route and Reporting Point actions are described below.

V-26: V-26 extends between the Blue Mesa, CO, VOR/DME and the Pierre, SD, VORTAC; and between the Redwood Falls, MN, VOR/DME and the Green Bay, WI, VORTAC. The airway segment between the Eau Claire, WI, VOR/DME and the Green Bay, WI, VORTAC is removed. As amended, the airway is changed to extend between the Blue Mesa, CO, VOR/DME and the Pierre, SD, VORTAC; and between the Redwood Falls, MN, VOR/DME and the Eau Claire, WI, VOR/DME.

V-63: V-63 extends between the Razorback, AR, VORTAC and the Davenport, IA, VORTAC; between the Janesville, WI, VOR/DME and the Oshkosh, WI, VORTAC; and between the Wausau, WI, VOR/DME and the Houghton, MI, VOR/DME. The airspace at and above 10,000 feet MSL from 5 NM north to 46 NM north of Quincy, IL, when the Howard West MOA is active, is excluded. The airway segment between the Wausau, WI, VOR/DME and the Rhinelander, WI, VOR/DME is removed. As amended, the airway is changed to extend between the Razorback, AR, VORTAC and the Davenport, IA, VORTAC; between the Janesville, WI, VOR/DME and the Oshkosh, WI, VORTAC; and between the Rhinelander, WI, VOR/DME and the Houghton, MI, VOR/DME, and the excluded airspace remains unchanged.

T-464: T-464 is a new RNAV route that extends between the CUSAY, WI, waypoint (WP) located northwest of Eau Claire, WI, and the CHURP, WI, Fix located near Clintonville, WI. The new route provides navigational options in areas of limited or no radar coverage to pilots whose aircraft are RNAV equipped as well as supports the FAA's efforts to transition the NAS from ground-based to satellite-based navigation. The full route description of T-464 is listed in the amendments to part 71 as set forth below.

Wausau, WI: The Wausau, WI, Domestic Low Altitude Reporting Point is revoked.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-26 and V-63; establishing RNAV route T-464; and revoking the Wausau, WI, Low Altitude Reporting Point, due to the planned decommissioning of the VOR portion of the Wausau, WI, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points) and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-26 [Amended]

From Blue Mesa, CO; Montrose, CO; 13 miles 112 MSL, 131 MSL, Grand Junction, CO; Meeker, CO; Cherokee, WY; Muddy Mountain, WY; 14 miles, 37 miles 75 MSL, 84 miles 90 MSL, Rapid City, SD; Philip, SD; to Pierre, SD. From Redwood Falls, MN; Farmington, MN; to Eau Claire, WI.

* * * * *

V-63 [Amended]

From Razorback, AR; Springfield, MO; Hallsville, MO; Quincy, IL; Burlington, IA; Moline, IL; to Davenport, IA. From Janesville, WI; Badger, WI; to Oshkosh, WI. From Rhinelander, WI; to Houghton, MI. Excluding that airspace at and above 10,000 feet MSL from 5 NM north to 46 NM north of Quincy, IL, when the Howard West MOA is active.

* * * * *

Paragraph 6011 United States Area Navigation Routes.

* * * * *

T-464 CUSAY, WI to CHURP, WI [New]
CUSAY, WI | WP | (Lat. 46°01′07.84″ N, long. 091°26′47.14″ W)
TONOC, WI | WP | (Lat. 45°03′47.56″ N, long. 091°38′11.87″ W)
EDGRR, WI | WP | (Lat. 44°51′31.83″ N, long. 089°56′43.06″ W)
HEVAV, WI | WP | (Lat. 44°50′48.43″ N, long. 089°35′12.51″ W)
CHURP, WI | FIX | (Lat. 44°42′54.82″ N, long. 088°56′48.69″ W)

* * * * *

Paragraph 7001 Domestic Low Altitude Report Points.

* * * * *

Wausau, WI [Removed]

* * * * *

Issued in Washington, DC, on October 5, 2022.
Scott M. Rosenbloom,
Manager, Airspace Rules and Regulations.

[FR Doc. 2022-22165 Filed 10-28-22; 8:45 am]

BILLING CODE 4910-13-P